DEPARTMENT OF DEFENSE

Office of the Secretary

[Docket ID: DoD-2024-OS-0108]

Submission for OMB Review; Comment Request

AGENCY: Office of the Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by January 30, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title, Associated Form, and OMB Number: End-Use Certificate; DLA Form 1822; OMB Control Number 0704-0382.

Type of Request: Revision.

Number of Respondents: 42,000.

Responses per Respondent: 1.

Annual Responses: 42,000.

Average Burden per Response: 20 minutes.

Annual Burden Hours: 14,000.

Needs and Uses: The End-Use Certificate (DLA Form 1822) is submitted by individuals prior to releasing export-controlled personal property out of DoD control. Export-controlled personal property are items listed on the United States Munitions Lists (USML) or Commerce Control List (CCL), and includes articles, items, technical data, technology, or software. Transfers of export-controlled personal property out of DoD control may be in tangible and intangible forms. The information collected is for the purpose of determining bidder or transferee eligibility to receive export-controlled personal property, and to ensure that transferees comply with the terms of sale or Military Critical Technical Data Agreement regarding end-use of the property. This form is to be used by the DoD Components, other Federal agencies who have acquired DoD export-controlled personal property, and or their contractors prior to releasing export-controlled personal property out of DoD or Federal agency control. End-use checks are required by the following: DoD Instruction 2030.08; DoD Manual 4160.28, Vol. 1-3; and DoD Manual 4160.21, Vol. 1-4.

Affected Public: Individuals or households; business or other for-profit; not-for-profit institutions.

Frequency: On occasion.

Respondent's Obligation: Voluntary.

DOD Clearance Officer: Mr. Reginald Lucas.

Dated: December 26, 2024.
Aaron T. Siegel,
Alternate OSD Federal Register, Liaison Officer, Department of Defense.

[FR Doc. 2024-31395 Filed 12-30-24; 8:45 am]

BILLING CODE 6001-FR-P